COMMITTEE FOR PURCHASE FROM PEOPLE WHO ARE BLIND OR SEVERELY DISABLED

Procurement List; Additions and Deletions

AGENCY: Committee for Purchase From People Who Are Blind or Severely Disabled.

ACTION: Additions to and deletions from the Procurement List.

SUMMARY: This action adds product(s) and service(s) to the Procurement List that will be furnished by nonprofit agencies employing persons who are blind or have other severe disabilities, and deletes product(s) and service(s) from the Procurement List previously furnished by such agencies.

DATES: Date added to and deleted from the Procurement List: December 27, 2020.

ADDRESSES: Committee for Purchase From People Who Are Blind or Severely Disabled, 1401 S Clark Street, Suite 715, Arlington, Virginia, 22202-4149.

FOR FURTHER INFORMATION CONTACT: Michael R. Jurkowski, Telephone: (703) 603-2117, Fax: (703) 603-0655, or email CMTEFedReg@AbilityOne.gov.

SUPPLEMENTARY INFORMATION:

Additions

On 7/10/2020, 8/21/2020 and 9/4/2020, the Committee for Purchase From People Who Are Blind or Severely Disabled published notice of proposed additions to the Procurement List. This notice is published pursuant to 41 U.S.C. 8503 (a)(2) and 41 CFR 51-2.3.

After consideration of the material presented to it concerning capability of qualified nonprofit agencies to provide the product(s) and service(s) and impact of the additions on the current or most recent contractors, the Committee has determined that the product(s) and service(s) listed below are suitable for procurement by the Federal Government under 41 U.S.C. 8501-8506 and 41 CFR 51-2.4.

Regulatory Flexibility Act Certification

I certify that the following action will not have a significant impact on a substantial number of small entities. The major factors considered for this certification were:

1. The action will not result in any additional reporting, recordkeeping or other compliance requirements for small entities other than the small organizations that will furnish the product(s) and service(s) to the Government.

2. The action will result in authorizing small entities to furnish the product(s) and service(s) to the Government.

3. There are no known regulatory alternatives which would accomplish the objectives of the Javits-Wagner-O'Day Act (41 U.S.C. 8501-8506) in connection with the product(s) and service(s) proposed for addition to the Procurement List.

End of Certification

Accordingly, the following product(s) and service(s) are added to the Procurement List:

Product(s)

NSN(s)—Product Name(s):

8415-00-NIB-1374—Face Covering/Mask, Universally Sized, Olive Green, PG/5

8415-00-NIB-1375—Face Covering/Mask, Universally Sized, Brown, PG/5

8415-00-NIB-1376—Face Covering/Mask, Universally Sized, Tan, PG/5

8415-00-NIB-1378—Face Covering/Mask, Universally Sized, Camo, PG/5

8415-00-NIB-1379—Face Covering/Mask, Universally Sized, Black, PG/5

8415-00-NIB-1380—Face Covering/Mask, Universally Sized, Olive Green, PG/50

8415-00-NIB-1381—Face Covering/Mask, Universally Sized, Brown, PG/50

8415-00-NIB-1382—Face Covering/Mask, Universally Sized, Tan, PG/50

8415-00-NIB-1383—Face Covering/Mask, Universally Sized, Camo, PG/50

8415-00-NIB-1384—Face Covering/Mask, Universally Sized, Black, PG/50

Designated Source of Supply: Winston-Salem Industries for the Blind, Inc., Winston-Salem, NC; Industries of the Blind, Inc., Greensboro, NC; Blind Industries & Services of Maryland, Baltimore, MD; Alphapointe, Kansas City, MO; Southeastern Kentucky Rehabilitation Industries, Inc., Corbin, KY

Mandatory For:

Contracting Activity: Committee for Purchase From People Who Are Blind or Severely Disabled

Service(s)

Service Type: Janitorial Service

Mandatory for: FAA, Denver Air Traffic Control Tower/Base Building and TRACON/Generator Building, Denver, CO

Designated Source of Supply: Bayaud Industries, Inc., Denver, CO

Contracting Activity: Federal Aviation Administration, 697DCK Regional Acquisitions SVCS

Service Type: Laundry Service

Mandatory for: Pennsylvania Air National Guard, 171st Air Refueling Wing, Aircrew Alert Facility, Coraopolis, PA

Designated Source of Supply: Hancock County Sheltered Workshop, Inc., Weirton, WV

Contracting Activity: Dept of the Army, W7NX USPFO Activity PA ARNG

Deletions

On 10/23/2020, the Committee for Purchase From People Who Are Blind or Severely Disabled published notice of proposed deletions from the Procurement List. This notice is published pursuant to 41 U.S.C. 8503 (a)(2) and 41 CFR 51-2.3.

After consideration of the relevant matter presented, the Committee has determined that the product(s) and service(s) listed below are no longer suitable for procurement by the Federal Government under 41 U.S.C. 8501-8506 and 41 CFR 51-2.4.

Regulatory Flexibility Act Certification

I certify that the following action will not have a significant impact on a substantial number of small entities. The major factors considered for this certification were:

1. The action will not result in additional reporting, recordkeeping or other compliance requirements for small entities.

2. The action may result in authorizing small entities to furnish the product(s) and service(s) to the Government.

3. There are no known regulatory alternatives which would accomplish the objectives of the Javits-Wagner-O'Day Act (41 U.S.C. 8501-8506) in connection with the product(s) and service(s) deleted from the Procurement List.

End of Certification

Accordingly, the following product(s) and service(s) are deleted from the Procurement List:

Product(s)

NSN(s)—Product Name(s):

6505-01-121-2336—Sunscreen, Lotion, SPF-15

Designated Source of Supply: SMA Healthcare, Inc., Daytona Beach, FL

Contracting Activity: DLA Troop Support, Philadelphia, PA

Service(s)

Service Type: Janitorial/Custodial

Mandatory for: U.S. Federal Building: 88 West 100 North, Provo, UT

Contracting Activity: General Services Administration, FPDS Agency Coordinator

Service Type: Food Service Attendant

Mandatory for: Air National Guard, 179AW, Ohio Air National Guard Base, Mansfield, OH

Designated Source of Supply: The Center for Individual and Family Services, Mansfield, OH

Contracting Activity: Dept of the Army, W7NU USPFO Activity OH ARNG

Service Type: Custodial Services

Mandatory for: USDA, #257 Aduana Street, Mayaguez, PR

Designated Source of Supply: The Corporate Source, Inc., Garden City, NY

Contracting Activity: Animal and Plant Health Inspection Service, USDA APHIS MRPBS

Service Type: Custodial Services

Mandatory for: USDA, Eugenio Maria de Hostos International Airport: Main Terminal Building Mayaguez Airport, Mayaguez, PR

Designated Source of Supply: The Corporate Source, Inc., Garden City, NY

Contracting Activity: Animal and Plant Health Inspection Service, USDA APHIS MRPBS

Service Type: Janitorial/Custodial

Mandatory for: DOT Murphy Building: Bradley International Airport, Floors 2, 3 & 4, Windsor Locks, CT

Contracting Activity: Transportation, Department of, Dept of Trans

Service Type: Janitorial/Custodial

Mandatory for: U.S. Army Reserve Center: Fort Dix

Designated Source of Supply: Occupational Training Center of Burlington County, Burlington, NJ

Contracting Activity: Dept of the Army, W6QM MICC CTR-FT DIX (RC)

Service Type: Janitorial & Grounds Service

Mandatory for: GSA PBS Region 9, Alan Bible Federal Building, Las Vegas, NV

Designated Source of Supply: Opportunity Village Association for Retarded Citizens, Las Vegas, NV

Contracting Activity: Public Buildings Service, PBS R9

Service Type: Food Service Attendant

Mandatory for: Base Miami Beach, Miami Beach, FL

Designated Source of Supply: Goodwill Industries of South Florida, Inc., Miami, FL

Contracting Activity: U.S. Coast Guard, DOL-9

Service Type: Data Entry/Data Base Management

Mandatory for: GSA, Paints and Chemicals Commodity Center: 400 15th Street, SW, Auburn, WA

Designated Source of Supply: JobOne, Independence, MO

Contracting Activity: Public Buildings Service, PBS R6

Michael R. Jurkowski,
Deputy Director, Business & PL Operations.

[FR Doc. 2020-26236 Filed 11-25-20; 8:45 am]

BILLING CODE 6353-01-P